DEPARTMENT OF THE INTERIOR

Fish and Wildlife Service

50 CFR Part 17

[FF09E21000 FXES1111090FEDR 245]

Endangered and Threatened Wildlife and Plants; 90-Day Findings for 10 Species

AGENCY: Fish and Wildlife Service, Interior.

ACTION: Notification of petition findings and initiation of status reviews.

SUMMARY: We, the U.S. Fish and Wildlife Service (Service), announce 90-day findings on 10 petitions to add species to the Lists of Endangered and Threatened Wildlife and Plants under the Endangered Species Act of 1973, as amended (Act). Based on our review, we find that the petitions to list Betta hendra, Betta rutilans, Hickory Nut Gorge green salamander (Aneides caryaensis), pygmy rabbit (Brachylagus idahoensis), Railroad Valley toad (Anaxyrus nevadensis), Southern Plains bumble bee (Bombus fraternus), Southwest spring firefly (Bicellonycha wickershamorum), white-margined penstemon (Penstemon albomarginatus), and yellow-spotted woodland salamander (Plethodon pauleyi) present substantial scientific or commercial information indicating that the petitioned actions may be warranted. Therefore, with the publication of this document, we announce that we are initiating status reviews of these species to determine whether the petitioned actions are warranted. To ensure that the status reviews are comprehensive, we request scientific and commercial data and other information regarding the species and factors that may affect their status. Based on the status reviews, we will issue 12-month petition findings, which will address whether or not the petitioned actions are warranted in accordance with the Act. We further find that the petition to list the eastern hellbender (Cryptobranchus alleganiensis alleganiensis) does not present substantial information indicating the petitioned action may be warranted. Therefore, we are not initiating a status review of the eastern hellbender.

DATES: These findings were made on January 25, 2024. As we commence our status reviews, we seek any new information concerning the status of, or threats to, Betta hendra, Betta rutilans, Hickory Nut Gorge green salamander, pygmy rabbit, Railroad Valley toad, Southern Plains bumble bee, Southwest spring firefly, white-margined penstemon, and yellow-spotted woodland salamander, or their habitats. Any information we receive during the course of our status reviews will be considered.

ADDRESSES:

Supporting documents: Summaries of the bases for the petition findings contained in this document are available on https://www.regulations.gov under the appropriate docket number (see tables under SUPPLEMENTARY INFORMATION). In addition, this supporting information is available by contacting the appropriate person, as specified in FOR FURTHER INFORMATION CONTACT.

Status reviews: If you have new scientific or commercial data or other information concerning the status of, or threats to, Betta hendra, Betta rutilans, Hickory Nut Gorge green salamander, pygmy rabbit, Railroad Valley toad, Southern Plains bumble bee, Southwest spring firefly, white-margined penstemon, and yellow-spotted woodland salamander, or their habitats, please provide those data or information by one of the following methods listed below. For Betta hendra and Betta rutilans, we specifically request information on information on any trade in the species, including evidence of trade levels, trends, and patterns, and any changes over time.

(1) Electronically: Go to the Federal eRulemaking Portal: https://www.regulations.gov. In the Search box, enter the appropriate docket number (see table 1 under SUPPLEMENTARY INFORMATION). Then, click on the “Search” button. After finding the correct document, you may submit information by clicking on “Comment.” If your information will fit in the provided comment box, please use this feature of https://www.regulations.gov, as it is most compatible with our information review procedures. If you attach your information as a separate document, our preferred file format is Microsoft Word. If you attach multiple comments (such as form letters), our preferred format is a spreadsheet in Microsoft Excel.

(2) By hard copy: Submit by U.S. mail to: Public Comments Processing, Attn: [Insert appropriate docket number; see table 1 under SUPPLEMENTARY INFORMATION], U.S. Fish and Wildlife Service, MS: PRB/3W, 5275 Leesburg Pike, Falls Church, VA 22041-3803.

We request that you send information only by the methods described above. We will post all information we receive on https://www.regulations.gov. This generally means that we will post any personal information you provide us (see Information Submitted for a Status Review, below).

FOR FURTHER INFORMATION CONTACT:

Species common name | Contact person
Betta hendra | Rachel London, Manager, Branch of Delisting and Foreign Species, Ecological Services Headquarters, 703-358-2491, rachel_london@fws.gov.
Betta rutilans | Rachel London, Manager, Branch of Delisting and Foreign Species, Ecological Services Headquarters, 703-358-2491, rachel_london@fws.gov.
eastern hellbender | Scott Hicks, Acting Field Office Supervisor, Ohio Ecological Services Field Office, 517-352-6274, scott_hicks@fws.gov.
Hickory Nut Gorge green salamander | Sue Cameron, Biologist, Asheville North Carolina Field Office, 828-450-7469, susan_cameron@fws.gov.
pygmy rabbit | Anne Mankowski, Biologist, Reno Fish and Wildlife Office, 775-861-6301, anne_mankowski@fws.gov.
Railroad Valley toad | Justin Barrett, Acting Field Supervisor, Reno Fish and Wildlife Office, 775-861-6338, justin_barrett@fws.gov.
Southern Plains bumble bee | Kraig McPeek, Field Supervisor, Illinois/Iowa Ecological Services Field Office, 309-757-5800 x202, kraig_mcpeek@fws.gov.
Southwest spring firefly | Heather Whitlaw, Field Office Supervisor, Arizona Field Office, 806-773-5932, heather_whitlaw@fws.gov.
white-margined penstemon | Glen Knowles, Field Supervisor, Southern Nevada Fish and Wildlife Office, 702-515-5244, glen_knowles@fws.gov.
yellow-spotted woodland salamander | Jennifer Norris, Field Office Supervisor, West Virginia Field Office, 304-704-0655, jennifer_l_norris@fws.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Information Submitted for a Status Review

You may submit your comments and materials concerning the status of, or threats to, Betta hendra, Betta rutilans, Hickory Nut Gorge green salamander, pygmy rabbit, Railroad Valley toad, Southern Plains bumble bee, Southwest spring firefly, white-margined penstemon, and yellow-spotted woodland salamander, or their habitats, by one of the methods listed in ADDRESSES. We request that you send comments only by the methods described in ADDRESSES. Please include sufficient information with your submission (such as scientific journal articles or other publications) to allow us to verify any scientific or commercial information you include.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing these findings, will be available for public inspection on https://www.regulations.gov.

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)). A positive 90-day petition finding does not indicate that the petitioned action is warranted; the finding indicates only that the petitioned action may be warranted and that a full review should occur.

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act.

If we find that a petition presents substantial scientific or commercial information indicating that the petitioned action may be warranted, the Act requires that we promptly commence a review of the status of the species, and we will subsequently complete a status review in accordance with our prioritization methodology for 12-month findings (81 FR 49248; July 27, 2016).

We note that designating critical habitat is not a petitionable action under the Act. Petitions to designate critical habitat (for species without existing critical habitat) are reviewed under the Administrative Procedure Act (5 U.S.C. 551 et seq.) and are not addressed in this finding (see 50 CFR 424.14(j)). To the maximum extent prudent and determinable, any proposed critical habitat will be addressed concurrently with a proposed rule to list a species, if applicable.

Summaries of Petition Findings

The petition findings contained in this document are listed in the tables below, and the basis for each finding, along with supporting information, is available on https://www.regulations.gov under the appropriate docket number.

Table 1—Internet Search Information for Substantial Findings for Nine Species
Common name | Docket No. | URL to Docket on https://www.regulations.gov
Betta hendra | FWS-HQ-ES-2023-0152 | https://www.regulations.gov/FWS-HQ-ES-2023-0152.
Betta rutilans | FWS-HQ-ES-2023-0153 | https://www.regulations.gov/FWS-HQ-ES-2023-0153.
Hickory Nut Gorge green salamander | FWS-R4-ES-2023-0139 | https://www.regulations.gov/FWS-R4-ES-2023-0139.
Pygmy rabbit | FWS-R8-ES-2023-0146 | https://www.regulations.gov/FWS-R8-ES-2023-0146.
Railroad Valley toad | FWS-R8-ES-2023-0142 | https://www.regulations.gov/FWS-R8-ES-2023-0142.
Southern Plains bumble bee | FWS-R3-ES-2023-0137 | https://www.regulations.gov/FWS-R3-ES-2023-0137.
Southwest spring firefly | FWS-R2-ES-2023-0136 | https://www.regulations.gov/FWS-R2-ES-2023-0136.
White-margined penstemon | FWS-R8-ES-2023-0141 | https://www.regulations.gov/FWS-R8-ES-2023-0141.
Yellow-spotted woodland salamander | FWS-R5-ES-2023-0140 | https://www.regulations.gov/FWS-R5-ES-2023-0140.

Table 2—Internet Search Information for Not-Substantial Finding for Eastern Hellbender
Docket No. | URL to Docket on https://www.regulations.gov
FWS-R3-ES-2023-0138 | https://www.regulations.gov/FWS-R3-ES-2023-0138.

Evaluation of a Petition To List Betta Hendra

Species and Range

Betta hendra; Central Kalimantan, Borneo, Indonesia.

Petition History

On July 6, 2023, we received a petition dated July 5, 2023, from the Center for Biological Diversity and Monitor Conservation Research Society, requesting that Betta hendra, a fish species, be emergency listed as a threatened species or an endangered species under the Act. The petition clearly identified itself as such and included the requisite identification information for the petitioner, required at 50 CFR 424.14(c). Listing a species on an emergency basis is not a petitionable action under the Act, and the question of when to list on an emergency basis is left to the discretion of the Service. If the Service determines that the standard for emergency listing in section 4(b)(7) of the Act is met, the Service may exercise that discretion to take an emergency listing action at any time. Therefore, we are considering the July 5, 2023, petition as a petition to list the Betta hendra. This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat loss and degradation (Factor A), we find that the petition presents substantial scientific or commercial information indicating that listing B. hendra as a threatened species or an endangered species may be warranted. The petitioners also presented information suggesting overutilization for commercial and recreational purposes (Factor B) and climate change (Factor E) may be threats to B. hendra. We will fully evaluate these potential threats during our 12-month status review, pursuant to the Act's requirement to review the best scientific and commercial information available when making that finding.

The basis for our finding on this petition and other information regarding our review of the petition can be found at https://www.regulations.gov under Docket No. FWS-HQ-ES-2023-0152 under the Supporting Documents section.

Evaluation of a Petition To List Betta Rutilans

Species and Range

Betta rutilans; Kalimantan Barat (West Kalimantan), Borneo, Indonesia.

Petition History

On July 6, 2023, we received a petition dated July 5, 2023, from the Center for Biological Diversity and Monitor Conservation Research Society, requesting that Betta rutilans, a fish species, be emergency listed as a threatened species or an endangered species under the Act. The petition clearly identified itself as such and included the requisite identification information for the petitioner, required at 50 CFR 424.14(c). Listing a species on an emergency basis is not a petitionable action under the Act, and the question of when to list on an emergency basis is left to the discretion of the Service. If the Service determines that the standard for emergency listing in section 4(b)(7) of the Act is met, the Service may exercise that discretion to take an emergency listing action at any time. Therefore, we are considering the July 5, 2023, petition as a petition to list Betta rutilans. This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat loss and degradation (Factor A), we find that the petition presents substantial scientific or commercial information indicating that listing B. rutilans as a threatened species or an endangered species may be warranted. The petitioners also presented information suggesting overutilization for commercial and recreational purposes (Factor B) and climate change (Factor E) may be threats to B. rutilans. We will fully evaluate these potential threats during our 12-month status review, pursuant to the Act's requirement to review the best scientific and commercial information available when making that finding.

The basis for our finding on this petition and other information regarding our review of the petition can be found at https://www.regulations.gov under Docket No. FWS-HQ-ES-2023-0153 under the Supporting Documents section.

Evaluation of a Petition To List the Hickory Nut Gorge Green Salamander

Species and Range

Hickory Nut Gorge green salamander (Aneides caryaensis); North Carolina.

Petition History

On July 13, 2022, we received a petition from the Center for Biological Diversity and Defenders of Wildlife requesting that the Hickory Nut Gorge green salamander (Aneides caryaensis) be listed as a threatened species or an endangered species and critical habitat be designated for this species under the Act. The petition clearly identified itself as such and included the requisite identification information for the petitioner, required at 50 CFR 424.14(c). This finding addresses the petition.

Finding

We reviewed the petition, sources cited in the petition, and other readily available information. We considered the credible information that the petition provided regarding effects of the threats that fall within factors under the Act's section 4(a)(1) as potentially ameliorated or exacerbated by any existing regulatory mechanisms or conservation efforts. Based on our review of the petition and readily available information regarding development, including recreation and roads (Factor A), we find that the petition presents substantial scientific or commercial information indicating that listing the Hickory Nut Gorge green salamander as a threatened species or endangered species may be warranted. The petitioners also presented information suggesting that logging, hemlock loss, invasive plant species, overutilization, disease, climate change, pollution, severe weather, catastrophic events, and the effects of small, isolated populations are threats to the Hickory Nut Gorge green salamander. We will fully evaluate these potential threats during our 12-month status review, pursuant to the Act's requirement to review the best scientific and commercial information available when making that finding.

The basis for our finding on this petition and other information regarding our review of the petition can be found at https://www.regulations.gov under Docket No. FWS-R4-ES-2023-0139 under the Supporting Documents section.

Evaluation of a Petition To List the Pygmy Rabbit

Species and Range

Pygmy rabbit (Brachylagus idahoensis); California, Colorado, Idaho, Montana, Nevada, Oregon, Utah, Wyoming, and the Columbia Basin Distinct Population Segment (DPS) in Washington State.

Petition History

On March 6, 2023, we received a petition from the Western Watersheds Project, Center for Biological Diversity, WildEarth Guardians, and the Defenders of Wildlife requesting that the pygmy rabbit (Brachylagus idahoensis) be listed as a threatened species or an endangered species and critical habitat be designated for this species under the Act. The petition clearly identified itself as such and included the requisite identification information for the petitioner, required at 50 CFR 424.14(c). This finding addresses the petition.

Finding

We reviewed the petition, sources cited in the petition, our 2010 not warranted 12-month finding (75 FR 60516; September 30, 2010), and other readily available information. The Columbia basin DPS of the pygmy rabbit has been listed as endangered since 2003. We considered the credible information that the petition provided regarding effects of the threats that fall within factors under the Act's section 4(a)(1) as potentially ameliorated or exacerbated by any existing regulatory mechanisms or conservation efforts. Based on our review of the petition and readily available information regarding the compound effects of fire, cheatgrass, and climate change (Factors A and E), we find that the petition presents substantial scientific or commercial information indicating that listing the pygmy rabbit rangewide, as a threatened species or an endangered species, may be warranted. The petitioners also presented information suggesting livestock grazing, oil and gas development, and disease may be threats to the pygmy rabbit. We will fully evaluate these potential threats during our 12-month status review, pursuant to the Act's requirement to review the best scientific and commercial information available when making that finding.

The basis for our finding on this petition and other information regarding our review of the petition can be found at https://www.regulations.gov under Docket No. FWS-R8-ES-2023-0146 under the Supporting Documents section.

Evaluation of a Petition To List the Railroad Valley Toad

Species and Range

Railroad Valley toad (Anaxyrus nevadensis); Nye County, Nevada.

Petition History

On May 5, 2022, we received a petition from the Center for Biological Diversity requesting that the Railroad Valley toad (Anaxyrus nevadensis) be listed as a threatened species or an endangered species and critical habitat be designated for this species under the Act. The petition clearly identified itself as such and included the requisite identification information for the petitioner, required at 50 CFR 424.14(c). This finding addresses the petition.

Finding

We reviewed the petition, sources cited in the petition, and other readily available information. We considered the credible information that the petition provided regarding effects of the threats that fall within factors under the Act's section 4(a)(1) as potentially ameliorated or exacerbated by any existing regulatory mechanisms or conservation efforts. Based on our review of the petition and readily available information regarding oil and gas extraction via hydraulic fracturing (Factor A) and lithium production (Factor A), we find that the petition presents substantial scientific or commercial information indicating that listing the Railroad Valley toad as a threatened species or an endangered species may be warranted. The petitioners also presented information suggesting livestock grazing, infrastructure, mining, disease, nonnative vegetation, climate change, and stochastic events may be threats to the Railroad Valley toad. We will fully evaluate these potential threats during our 12-month status review, pursuant to the Act's requirement to review the best scientific and commercial information available when making that finding.

The basis for our finding on this petition and other information regarding our review of the petition can be found at https://www.regulations.gov under Docket No. FWS-R8-ES-2023-0142 under the Supporting Documents section.

Evaluation of a Petition To List the Southern Plains Bumble Bee

Species and Range

Southern Plains bumble bee (Bombus fraternus); Alabama, Arkansas, Colorado, Florida, Georgia, Illinois, Iowa, Kansas, Kentucky, Louisiana, Mississippi, Missouri, Nebraska, New Mexico, California, North Dakota, Ohio, Oklahoma, South Carolina, South Dakota, Tennessee, Texas, Virginia, Wyoming.

Petition History

On July 27, 2022, we received a petition from the Center for Biological Diversity requesting that the Southern Plains bumble bee (Bombus fraternus) be listed as an endangered species and critical habitat be designated for this species under the Act. The petition clearly identified itself as such and included the requisite identification information for the petitioner, required at 50 CFR 424.14(c). This finding addresses the petition.

Finding

We reviewed the petition, sources cited in the petition, and other readily available information. We considered the credible information that the petition provided regarding effects of the threats that fall within factors under the Act's section 4(a)(1) as potentially ameliorated or exacerbated by any existing regulatory mechanisms or conservation efforts. Based on our review of the petition and readily available information regarding agriculture practices (Factor A) and pesticide use (Factor E), we find that the petition presents substantial scientific or commercial information indicating that listing the Southern Plains bumble bee as a threatened species or endangered species may be warranted. The petitioners also presented information suggesting nonnative invasive species encroachment, grazing, honey bees, changes to fire regimes, disease, inadequacy of existing regulatory mechanisms, climate change, and the effects of small populations may be threats to the Southern Plains bumble bee. We will fully evaluate these potential threats during our 12-month status review, pursuant to the Act's requirement to review the best scientific and commercial information available when making that finding.

The basis for our finding on this petition and other information regarding our review of the petition can be found at https://www.regulations.gov under Docket No. FWS-R3-ES-2023-0137 under the Supporting Documents section.

Evaluation of a Petition To List the Southwest Spring Firefly

Species and Range

Southwest spring firefly (Bicellonycha wickershamorum); Arizona and New Mexico (United States), Sonora (Mexico).

Petition History

On March 30, 2023, we received a petition from The Xerces Society for Invertebrate Conservation and the New Mexico BioPark Society requesting that the Southwest spring firefly (Bicellonycha wickershamorum) be listed as an endangered species and critical habitat be designated for this species under the Act. The petition clearly identified itself as such and included the requisite identification information for the petitioner, required at 50 CFR 424.14(c). This finding addresses the petition.

Finding

We reviewed the petition, sources cited in the petition, and other readily available information. We considered the credible information that the petition provided regarding effects of the threats that fall within factors under the Act's section 4(a)(1) as potentially ameliorated or exacerbated by any existing regulatory mechanisms or conservation efforts. Based on our review of the petition and readily available information regarding loss and degradation of wetland habitats (Factor A), livestock grazing (Factor A), mining (Factor A), climate change (Factor E), and light pollution (Factor E), we find that the petition presents substantial scientific or commercial information indicating that listing the Southwest spring firefly as an endangered species may be warranted. We will fully evaluate these potential threats during our 12-month status review, pursuant to the Act's requirement to review the best scientific and commercial information available when making that finding.

The basis for our finding on this petition, and other information regarding our review of the petition, can be found at https://www.regulations.gov under Docket No. FWS-R2-ES-2023-0136 under the Supporting Documents section.

Evaluation of a Petition To List the White-Margined Penstemon

Species and Range

White-margined penstemon (Penstemon albomarginatus); Mohave County, Arizona; Nye and Clark Counties, Nevada; San Bernadino County, California.

Petition History

On March 16, 2023, we received a petition from the Center for Biological Diversity requesting that white-margined penstemon (Penstemon albomarginatus) be listed as a threatened species or an endangered species and critical habitat be designated for this species under the Act. The petition clearly identified itself as such and included the requisite identification information for the petitioner, required at 50 CFR 424.14(c). This finding addresses the petition.

Finding

We reviewed the petition, sources cited in the petition, and other readily available information. We considered the credible information that the petition provided regarding effects of the threats that fall within factors under the Act's section 4(a)(1) as potentially ameliorated or exacerbated by any existing regulatory mechanisms or conservation efforts. Based on our review of the petition, sources cited in the petition, and readily available information regarding habitat loss and degradation due to land development and off-highway vehicle use (Factor A) and effects of climate change (Factor E), we find that the petition presents substantial scientific or commercial information indicating that listing the white-margined penstemon as a threatened species or endangered species may be warranted. The petitioners also presented information suggesting cattle grazing (Factor A), insect and mammalian predation (Factor C), invasive plant species (Factor E), and pollinator limitation (Factor E) may be threats to the white-margined penstemon. We will fully evaluate these potential threats during our 12-month status review, pursuant to the Act's requirement to review the best scientific and commercial information available when making that finding.

The basis for our finding on this petition, and other information regarding our review of the petition, can be found at https://www.regulations.gov under Docket No. FWS-R8-ES-2023-0141 under the Supporting Documents section.

Evaluation of a Petition To List the Yellow-Spotted Woodland Salamander

Species and Range

Yellow-spotted woodland salamander (Plethodon pauleyi); West Virginia, Virginia, Kentucky, and Tennessee; range extends from the New River Gorge in West Virginia to Pine Mountain along the Kentucky and Tennessee border.

Petition History

On August 24, 2022, we received a petition from the Center for Biological Diversity, Appalachian Mountain Advocates, Appalachian Voices, Citizens Coal Council, The Clinch Coalition, Coal River Mountain Watch, Dogwood Alliance, Forest Keeper, Heartwood, Kentucky Heartwood, and Kentucky Waterways Alliance requesting that yellow-spotted woodland salamander (Plethodon pauleyi) be listed as a threatened species or an endangered species and critical habitat be designated for this species under the Act. The petition clearly identified itself as such and included the requisite identification information for the petitioner, required at 50 CFR 424.14(c). This finding addresses the petition.

Finding

We reviewed the petition, sources cited in the petition, and other readily available information. We considered the credible information that the petition provided regarding effects of the threats that fall within factors under section 4(a)(1) as potentially ameliorated or exacerbated by any existing regulatory mechanisms or conservation efforts. Based on our review of the petition and readily available information regarding mining operations (Factor A), land clearing (Factor A) and climate change (Factor E), we find that the petition presents substantial scientific or commercial information indicating that listing the yellow-spotted woodland salamander as a threatened species or an endangered species may be warranted. The petitioners also presented information suggesting that collection, predation, disease, invasive species, pollution, and recreation may be threats to the yellow-spotted woodland salamander. We will fully evaluate these potential threats during our 12-month status review, pursuant to the Act's requirement to review the best scientific and commercial information available when making that finding.

The basis for our finding on this petition and other information regarding our review of the petition can be found at https://www.regulations.gov under Docket No. FWS-R5-ES-2023-0140 under the Supporting Documents section.

Evaluation of a Petition To List the Eastern Hellbender

Species and Range

Eastern hellbender (Cryptobranchus alleganiensis alleganiensis); Northeastern Mississippi, northern Alabama, northern Georgia, Tennessee, western North Carolina, western Virginia, West Virginia, Kentucky, southern Illinois, southern Indiana, Ohio, Pennsylvania, western Maryland, and southern New York, with disjunct populations occurring in east-central Missouri.

Petition History

On March 31, 2022, we received a petition from Jenna M. Hauck requesting that the eastern hellbender (Cryptobranchus alleganiensis alleganiensis) be listed as a threatened species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding the individual and cumulative effects of threats that fall within factors under the Act's section 4(a)(1) as potentially ameliorated or exacerbated by any existing regulatory mechanisms or conservation efforts. Based on our review of the petition, sources cited in the petition, and other readily available information, we find that the petition does not provide substantial scientific or commercial information indicating that listing the eastern hellbender as a threatened species may be warranted. All of the information provided by the petitioner was already considered in our 2019 12-month finding for the species in which we determined that listing is not warranted (84 FR 13223; April 4, 2019). We are not initiating a status review of this species in response to this petition. However, we ask that the public submit to us any new information that becomes available concerning the status of, or threats to, this species or its habitat at any time (see FOR FURTHER INFORMATION CONTACT, above).

The basis for our finding on this petition, and other information regarding our review of the petition can be found at https://www.regulations.gov under Docket No. FWS-R3-ES-2023-0138 under the Supporting Documents section.

Conclusion

On the basis of our evaluation of the information presented in the petitions under sections 4(b)(3)(A) of the Act, we have determined that the petitions summarized above for Betta hendra, Betta rutilans, the Hickory Nut Gorge green salamander, pygmy rabbit, Railroad Valley toad, Southern Plains bumble bee, Southwest spring firefly, white-margined penstemon, and yellow-spotted woodland salamander present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species. In addition, we have determined that the petition summarized above for the eastern hellbender does not present substantial scientific or commercial information indicating that the petitioned action may be warranted. We are, therefore, not initiating a status review for the eastern hellbender in response to the petition.

Authors

The primary authors of this document are staff members of the Ecological Services Program, U.S. Fish and Wildlife Service.

Authority

The authority for these actions is the Endangered Species Act of 1973, as amended (16 U.S.C. 1531 et seq.).

Martha Williams,
Director, U.S. Fish and Wildlife Service.

[FR Doc. 2024-01454 Filed 1-24-24; 8:45 am]

BILLING CODE 4333-15-P